DEPARTMENT OF HEALTH AND HUMAN SERVICES

Office of the Secretary; Agency Information Collection Activities: Submission for OMB review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB. 1. OCR Pre-grant Automation Project—NEW—The Office for Civil Rights (OCR) has developed a standardized automated review format for the conduct of civil rights compliance investigations of health care providers who have requested certification to participate in the Medicare program. Health care providers requesting certification must review their policies/practices and submit material to demonstrate compliance with the civil rights requirements of Title VI of the Civil Rights Act of 1964, Section 504 of the Rehabilitation Act of 1973 and the Age Discrimination Act of 1975. Respondents: Businesses or other for-profit, State, Local or Tribal Government; Annual Number of Respondents: 3,000; Frequency of Response: one time; Average Burden per Response: 16 hours; Annual Burden: 48,000 hours.

OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC 20201. Written comments should be received within 30 days of this notice.

Dated: July 31, 2000.
Dennis P. Williams,
Deputy Assistant Secretary, Budget.

[FR Doc. 00-20010 Filed 8-7-00; 8:45 am]

BILLING CODE 4150-04-M